FEDERAL COMMUNICATIONS COMMISSION

47 CFR Part 73

[MB Docket No. 21-54; RM-11879; DA 21-163; FR ID 17507]

Television Broadcasting Services Peoria and Oswego, Illinois

AGENCY: Federal Communications Commission.

ACTION: Proposed rule.

SUMMARY: The Commission has before it a petition for rulemaking Four Seasons Peoria, LLC (Petitioner), licensee of television station WAOE, channel 10, Peoria, Illinois, requesting an amendment of the DTV Table of Allotments to delete channel 10 at Peoria, Illinois, and substitute channel 10 at Oswego, Illinois. Petitioner further requests modification of WAOE's license to specify Oswego as its community of license pursuant to the Commission's rules.

DATES: Comments must be filed on or before May 12, 2021 and reply comments on or before May 27, 2021.

ADDRESSES: Federal Communications Commission, Office of the Secretary, 45 L Street NE, Washington, DC 20554. In addition to filing comments with the FCC, interested parties should serve counsel for petitioner as follows: Joan Stewart, Esq., Wiley Rein LLP, 1776 Street NW, Washington, DC 20006.

FOR FURTHER INFORMATION CONTACT: Shaun Maher, Media Bureau, at (202) 418-2324 or Shaun.Maher@fcc.gov.

SUPPLEMENTARY INFORMATION: This is a synopsis of the Commission's Notice of Proposed Rulemaking, MB Docket No. 21-54; RM-11879; DA 21-163, adopted February 12, 2021, and released February 12, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

Petitioner does not propose any changes in WAOE's authorized facilities and will continue to provide a principal community coverage signal both Oswego and Peoria from its currently authorized transmission facilities. Petitioner maintains that the proposed community of license change is mutually exclusive with WAOE's current allotment and therefore its proposal satisfies the requirement that its proposed allotment be “mutually exclusive with the licensee's present allotment.”

Petitioner asserts that Oswego qualifies as a community for allotment purposes. Petitioner maintains that Oswego, which, noted above, currently has no local television allotment, is the largest community within Kendall County, Illinois. Petitioner states that Oswego's population has increased almost ten-fold from 3,875 in 1990 to 34,383 today11 and is expected to double by 2040. Petitioner notes that Oswego has a fully autonomous municipal government led by a President and a seven-member Board of Trustees; as well as a professional management staff, led by a professional Village Administrator and a Village Clerk. Oswego has a full-service Police Department; schools, including six elementary schools, three junior high schools and two high schools; a Public Library District; and extensive Park District. Finally, Petitioner states that Oswego has its own ZIP Code; a local newspaper (the Oswego Ledger-Sentinel); chamber of commerce; multiple medical facilities; and is part of a transit system dedicated to serving residents of Kendall County.

Petitioner argues that its proposal represents a preferential arrangement of allotments under the Commission's second allotment priority because it will result in a first local television station for Oswego, which is the largest community in Kendall County, Illinois. Petitioner notes that WAOE's existing community of license, Peoria, will continue to have four full power local television stations licensed to it following the reallotment, and because WAOE is not proposing to modify its technical facilities, the community of license change will not adversely affect the service provided to Peoria. Accordingly, Petitioner concludes that application of the Commission's television allotment priorities favors a reallotment of channel 10 to Oswego.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622, paragraph (i) is amended in the Post-Transition Table of DTV Allotments under Illinois by adding an entry in alphabetical order for “Oswego” and revising the entry for “Peoria” to read as follows:

§ 73.622 Digital television table of allotments.

* * * * *

(i) * * *

Community | Channel No.
* * * * *
ILLINOIS
* * * * *
Oswego | 10.
Peoria | 19, 25, 30, *46.
* * * * *

[FR Doc. 2021-07442 Filed 4-9-21; 8:45 am]

BILLING CODE 6712-01-P